DEPARTMENT OF ENERGY

Bonneville Power Administration

Windy Point Wind Energy Project; November 2006

AGENCY: Bonneville Power Administration (BPA), Department of Energy.

ACTION: Notice of Record of Decision (ROD).

SUMMARY: This notice announces the availability of the ROD to offer contract terms for interconnection of up to 250 megawatts of power to be generated by the proposed Windy Point Wind Energy Project (Wind Project) into the Federal Columbia River Transmission System (FCRTS). BPA has considered both the economic and environmental consequences of taking action to integrate power from the Wind Project into the FCRTS. The Wind Project would be interconnected at BPA's Rock Creek Substation (under construction) along BPA's Wautoma—John Day No. 1 500-kilovolt transmission line. The Wind Project would be located between 6 to 15 miles southeast of Goldendale, Washington, north and northwest of the community of Goodnoe Hills. The project would be east of Highway 97 and south of Hoctor Road, and would be constructed on and next to a high ridgeline overlooking the Columbia River. This decision is consistent with and tiered to BPA's Business Plan Final Environment Impact Statement (BP EIS) (DOE/EIS-0183, June 1995), and the Business Plan Record of Decision (BP ROD, August 15, 1995).

ADDRESSES: Copies of the ROD may be obtained by calling BPA's toll-free document request line, 1-800-622-4520. The ROD is also available on our Web site, http://www.efw.bpa.gov.

FOR FURTHER INFORMATION CONTACT: Nancy Wittpenn, Bonneville Power Administration—KEC-4, P.O. Box 3621, Portland, Oregon, 97208-3621; toll-free telephone number 1-800-282-3713; fax number 503-230-5699; or e-mail nawittpen@bpa.gov.

Issued in Portland, Oregon, on November 29, 2006.
Stephen J. Wright,
Administrator and Chief Executive Officer.

[FR Doc. E6-20654 Filed 12-5-06; 8:45 am]

BILLING CODE 6450-01-P